CHEMICAL SAFETY AND HAZARD INVESTIGATION BOARD

Sunshine Act Meeting

TIME AND DATE: January 13, 2016, 5:00 p.m. PST.

PLACE: City Hall, Council Chamber, 3031 Torrance Blvd., Torrance, CA 90503.

STATUS: Open to the public.

Matters To Be Considered

The Chemical Safety and Hazard Investigation Board (CSB) will convene a public meeting on January 13, 2016, starting at 5:00 p.m. PST at Torrance City Hall Council Chamber, 3031 Torrance Blvd., Torrance, CA 90503. The Board will discuss its investigation of the incident at the ExxonMobil Refinery on February 18, 2015. CSB Staff will present interim findings to the Board. Following the staff presentation, the Board will hear from a panel of experts on process safety management (PSM) reform in the State of California.

Additional Information

The meeting is free and open to the public. If you require a translator or interpreter, please notify the individual listed below as the “Contact Person for Further Information,” at least three business days prior to the meeting.

This meeting will be webcast for those who cannot attend in person. Please visit www.csb.gov for access to the live webcast.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

Contact Person for Further Information

Shauna Lawhorne, Public Affairs Specialist, public@csb.gov or (202) 261-7600. Further information about this public meeting can be found on the CSB Web site at: www.csb.gov.

Dated: January 6, 2016.
Kara A. Wenzel,
Acting General Counsel, Chemical Safety and Hazard Investigation Board.

[FR Doc. 2016-00298 Filed 1-6-16; 4:15 pm]

BILLING CODE 6350-01-P